Executive Order 13774 of February 9, 2017

Preventing Violence Against Federal, State, Tribal, and Local Law Enforcement Officers

By the authority vested in me as President by the Constitution and the laws of the United States of America, it is hereby ordered as follows:

Section 1. Policy. It shall be the policy of the executive branch to:

(a) enforce all Federal laws in order to enhance the protection and safety of Federal, State, tribal, and local law enforcement officers, and thereby all Americans;

(b) develop strategies, in a process led by the Department of Justice (Department) and within the boundaries of the Constitution and existing Federal laws, to further enhance the protection and safety of Federal, State, tribal, and local law enforcement officers; and

(c) pursue appropriate legislation, consistent with the Constitution's regime of limited and enumerated Federal powers, that will define new Federal crimes, and increase penalties for existing Federal crimes, in order to prevent violence against Federal, State, tribal, and local law enforcement officers.

Sec. 2. Implementation. In furtherance of the policy set forth in section 1 of this order, the Attorney General shall:

(a) develop a strategy for the Department's use of existing Federal laws to prosecute individuals who commit or attempt to commit crimes of violence against Federal, State, tribal, and local law enforcement officers;

(b) coordinate with State, tribal, and local governments, and with law enforcement agencies at all levels, including other Federal agencies, in prosecuting crimes of violence against Federal, State, tribal, and local law enforcement officers in order to advance adequate multi-jurisdiction prosecution efforts;

(c) review existing Federal laws to determine whether those laws are adequate to address the protection and safety of Federal, State, tribal, and local law enforcement officers;

(d) following that review, and in coordination with other Federal agencies, as appropriate, make recommendations to the President for legislation to address the protection and safety of Federal, State, tribal, and local law enforcement officers, including, if warranted, legislation defining new crimes of violence and establishing new mandatory minimum sentences for existing crimes of violence against Federal, State, tribal, and local law enforcement officers, as well as for related crimes;

(e) coordinate with other Federal agencies to develop an executive branch strategy to prevent violence against Federal, State, tribal, and local law enforcement officers;

(f) thoroughly evaluate all grant funding programs currently administered by the Department to determine the extent to which its grant funding supports and protects Federal, State, tribal, and local law enforcement officers; and

(g) recommend to the President any changes to grant funding, based on the evaluation required by subsection (f) of this section, including recommendations for legislation, as appropriate, to adequately support and protect Federal, State, tribal, and local law enforcement officers.

Sec. 3. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

February 9, 2017.

[FR Doc. 2017-03115

Filed 2-13-17; 11:15 am]

Billing code 3295-F7-P